DEPARTMENT OF THE INTERIOR

Bureau of Land Management

[UTU 011167]

Public Land Order No. 7451; Partial Revocation of Bureau of Reclamation Order Dated December 17, 1954; Utah

AGENCY: Bureau of Land Management, Interior.

ACTION: Public land order.

SUMMARY: This order partially revokes a Bureau of Reclamation order insofar as it affects 5,274 acres of lands withdrawn for the Central Utah Project. The lands are no longer needed for the purpose for which they were withdrawn. This action returns 2,484 acres to Bureau of Land Management administration and opens them to surface entry but not to mining, and returns 2,790 acres to National Forest administration and opens them to mining and to such forms of disposition as may by law be made of National Forest System lands. All of the lands have been and will remain open to mineral leasing.

EFFECTIVE DATE: July 7, 2000.

FOR FURTHER INFORMATION CONTACT: Rhonda Flynn, BLM Utah State Office (UT-942), 324 South State Street, Salt Lake City, Utah 84111-2303, 801-539-4132.

By virtue of the authority vested in the Secretary of the Interior by Section 204 of the Federal Land Policy and Management Act of 1976, 43 U.S.C. 1714 (1994), it is ordered as follows:

1. The Bureau of Reclamation Order dated December 17, 1954, which withdrew lands for the Central Utah Project, is hereby revoked insofar as it affects the following described lands:

Salt Lake Meridian

(a) Public Lands

T. 2 S., R. 6 E.,

Sec. 30, lot 4 and SE¼SW¼.

T. 3 S., R. 21 E.,

Sec. 23, NE¼SW¼;

Sec. 27, lots 1 and 2, E½NE¼, NW¼NE¼, and NW¼;

Sec. 33, lots 1 and 2, NE¼, and N½SE¼;

Sec. 34, lot 4 and NW¼NW¼.

T. 4 S., R. 21 E.,

Sec. 3, N½N½SE¼NW¼;

Sec. 4, lots 2 and 3.

T. 5 S., R. 1 W.,

Sec. 24, lots 2 and 4.

T. 5 S., R. 4 E.,

Sec. 3, NE¼SE¼.

T. 7 S., R. 2 E.,

Sec. 15, lot 1;

Sec. 25, lots 2 and 3, and SE¼SW¼;

Sec. 26, lots 1 to 4, inclusive;

Sec. 27, lot 1.

T. 9 S., R. 2 E.,

Sec. 31, lot 7.

T. 9 S., R. 3 E.,

Sec. 15, E½.

T. 9 S., R. 4 E.,

Sec. 9, lot 2.

T. 10 S., R. 1 W.,

Sec. 35, S½S½;

Sec. 36, lots 13 and 14.

T. 11 S., R. 1 W.,

Sec. 1, lots 3 and 4, S½NW¼, SW¼, and SW¼SE¼;

Sec. 12, N½NE¼, SW¼NE¼, N½NW¼, and SE¼NW¼.

The areas described aggregate approximately 2,484 acres in Uintah, Juab, Summit, Utah, and Wasatch Counties.

(b) Uinta National Forest

T. 6 S., R. 5 E.,

Sec. 7, lots 1 to 4, inclusive, and E½E½; secs. 8 and 17;

Sec.18, lots 1 to 4, inclusive, and E½E½.

T. 8 S., R. 4 E.,

Sec. 35, SE¼NW¼.

T. 9 S., R. 2 E.,

Sec. 28, W½NW¼;

Sec. 31, lot 8.

T. 9 S., R. 4 E.,

Sec. 9, lot 1, NW¼NE¼, NW¼, N½NE¼SW¼, SW¼NE¼SW¼, and NW¼SW¼.

T. 10 S., R. 1 E.,

Sec. 12, SE¼SE¼;

Sec. 13, SW¼NE¼, SE¼NW¼, E½SW¼, NE¼SE¼, and W½SE¼.

T. 10 S., R. 2 E.,

Sec. 5, lot 4;

Sec. 6, lots 8, 11, 12, and 13, and SE¼NW¼.

T. 12 S., R. 1 E.,

Sec. 16, SE¼SW¼;

Sec. 21, NE¼NW¼.

The areas described aggregate approximately 2,790 acres in Juab, Summit, and Wasatch Counties.

2. At 10 a.m. on July 7, 2000, the lands described in paragraph 1(a) will be opened to the operation of the public land laws generally, subject to valid existing rights, the provisions of existing withdrawals, other segregations of record, and the requirements of applicable law. All valid applications received at or prior to 10 a.m. on July 7, 2000, shall be considered as simultaneously filed at that time. Those received thereafter shall be considered in the order of filing.

3. The lands described in paragraph 1(a) will not be opened to mining until appropriate land use planning is completed.

4. At 10 a.m. on July 7, 2000, the lands described in paragraph 1(b) shall be opened to such forms of disposition as may by law be made of National Forest System lands, including location and entry under the United States mining laws, subject to valid existing rights, the provisions of existing withdrawals, other segregations of record, and the requirements of applicable law. Appropriation of lands described in this order under the general mining laws prior to the date and time of restoration is unauthorized. Any such attempted appropriation, including attempted adverse possession under 30 U.S.C. 38 (1994), shall vest no rights against the United States. Acts required to establish a location and to initiate a right of possession are governed by State law where not in conflict with Federal law. The Bureau of Land Management will not intervene in disputes between rival locators over possessory rights since Congress has provided for such determinations in local courts.

Dated: May 22, 2000.
Sylvia V. Baca,
Assistant Secretary of the Interior.

[FR Doc. 00-14290 Filed 6-6-00; 8:45 am]

BILLING CODE 4310-MN-P